DEPARTMENT OF EDUCATION

President's Board of Advisors on Historically Black Colleges and Universities

AGENCY: U.S. Department of Education, President's Board of Advisors on Historically Black Colleges and Universities.

ACTION: Notice of an open meeting.

SUMMARY: The notice sets forth the schedule and agenda of the meeting of the President's Board of Advisors on Historically Black Colleges and Universities. The notice also describes the functions of the Board. Notice of the meeting is required by Section 10 (a) (2) of the Federal Advisory Committee Act and intended to notify the public of its opportunity to attend. Due to scheduling difficulties, this notice is appearing in the Federal Register less than 15 days prior to the meeting date.

DATES: Tuesday, January 13, 2009.

Time: 9:00 a.m.-3:30 p.m.

ADDRESSES: The Board will meet on the campus of Fisk University, Jubilee Hall, Appleton Room, 1000 17th Avenue, North, Nashville, TN 37208, Phone: 615-329-8500; Fax: 615-329-8576.

FOR FURTHER INFORMATION, CONTACT: Leonard L. Haynes III, Ph.D., Executive Director, White House Initiative on Historically Black Colleges and Universities, 1990 K Street, NW., Washington, DC 20006; telephone: (202) 502-7549; fax: 202-502-7852.

SUPPLEMENTARY INFORMATION: The President's Board of Advisors on Historically Black Colleges and Universities is established under Executive Order 13256, dated February 12, 2002 and Executive Order 13316 dated September 17, 2003. The Board is established (a) to report to the President annually on the results of the participation of historically black colleges and universities (HBCUs) in federal programs, including recommendations on how to increase the private sector role in strengthening these institutions, with particular emphasis given to enhancing institutional planning and development; strengthening fiscal stability and financial management; and improving institutional infrastructure, including the use of technology, to ensure the long-term viability and enhancement of these institutions; (b) to advise the President and the Secretary of Education (Secretary) on the needs of HBCUs in the areas of infrastructure, academic programs, and faculty and institutional development; (c) to advise the Secretary in the preparation of an annual Federal plan for assistance to HBCUs in increasing their capacity to participate in Federal programs; (d) to provide the President with an annual progress report on enhancing the capacity of HBCUs to serve their students; and (e) to develop, in consultation with the Department of Education and other Federal agencies, a private sector strategy to assist HBCUs.

Agenda:

The meeting will provide the Board a forum to receive presentations regarding the status of the 2006 and 2007 annual reports and to discuss other related pertinent issues involving implementation of Presidential Executive Order 13256. The meeting will be open to the public.

Additional Information:

Individuals who will need accommodations for a disability in order to attend the meeting (e.g., interpreting services, assistive listening devices, or material in alternative format) should notify ReShone Moore at (202) 502-7893, no later than Wednesday, January 7, 2009. We will attempt to meet requests for accommodations after this date, but cannot guarantee their availability. The meeting site is accessible to individuals with disabilities.

An opportunity for public comment is available on Tuesday, January 13, 2009 between 3:00 p.m.-3:30 p.m. Individuals who wish to provide comments will be allowed three to five minutes to speak. Those members of the public interested in submitting written comments may do so by submitting it to the attention of Leonard L. Haynes, 1990 K Street NW., Washington, DC, by Wednesday, January 7, 2009.

Records are kept of all Board proceedings and are available for public inspection at the office of the White House Initiative on Historically Black Colleges and Universities, U.S. Department of Education, 1990 K Street, NW. Washington, DC 20006, Monday—Friday during the hours of 8:00 a.m. to 5:00 p.m.

Electronic Access to this Document: You may view this document, as well as all other documents of this Department published in the Federal Register, in text or Adobe Portable Document Format (PDF), on the internet at the following site: www.ed.gov/news/fedregister/index.html.

To use PDF, you must have Adobe Acrobat Reader, which is available free at this site. If you have questions about using PDF, call the U.S. Government Printing Office (GPO), toll free at 1-888-293-6498; or in the Washington, DC area at 202-512-1530.

Note: The official version of this document is the document published in the Federal Register. Free Internet access to the official edition of the Federal Register and the Code of Federal Regulations is available on GPO Access at www.gpoaccess.gov/nara/index.html.

Cheryl L. Oldham,
Acting Assistant Secretary for Postsecondary Education.

[FR Doc. E8-30254 Filed 12-18-08; 8:45 am]

BILLING CODE 4000-01-P